DEPARTMENT OF HEALTH AND HUMAN SERVICES

Public Health Service

National Toxicology Program (NTP); The NTP Annual Plan for Fiscal Year 2002; Notice of Availability

Summary

The NTP announces the availability of the NTP Annual Plan for Fiscal Year 2002. This report outlines the NTP research program for studying the toxicity of physical and chemical agents and for developing methods for toxicological evaluations. The report also provides information about efforts to develop and validate alternative and improved methods and identifies NTP resource allocations.

Background

The NTP was established within the Public Health Service of the Department of Health and Human Services (DHHS) in November 1978. The NTP is an interagency program whose mission is to evaluate agents of public health concern by developing and applying the tools of modern toxicology and molecular biology. In carrying out its mission, the NTP has several goals to:

• Broaden the spectrum of toxicological information obtained on selected chemicals;

• Develop and validate more sensitive and specific test methods;

• Develop improved strategies for generating scientific data that strengthen the scientific foundation for risk assessments; and

• Communicate NTP plans and results to government agencies, the medical and scientific communities, and the public.

A balanced program was created that includes chronic exposure studies, short-term exposure studies, the collection and application of mechanistic information, model development, alternative methods, and human studies. Scientific activities are divided into several major program areas: carcinogenesis, risk assessment research, alternative test systems, and toxicology. Toxicology covers activities in immunotoxicology, neurobehavioral toxicology, reproductive and developmental toxicology, respiratory toxicology and phototoxicology. Program and project leaders along with contact information are provided in the plan.

The NTP is headquartered at the National Institute of Environmental Health Sciences of the National Institutes of Health (NIEHS/NIH). The NTP consists of the relevant toxicology activities of the NIEHS/NIH, the National Center for Toxicological Research of the Food and Drug Administration and the Centers for Disease Control and Prevention's National Institute for Occupational Safety and Health. The Director of the NIEHS is also the NTP Director.

Availability of the NTP Annual Plan

The NTP Annual Plan for Fiscal Year 2002 is available electronically on the NTP Web site (http://ntp-server.niehs.nih.gov). Hard copies are available from the NTP Central Data Management (NIEHS, P.O. Box 12233, MD EC-03, Research Triangle Park, NC 27709; telephone 919-541-3419; fax 919-541-3687; cdm@niehs.nih.gov).

Dated: March 20, 2003.
Samuel Wilson,
Deputy Director, NIEHS.

[FR Doc. 03-7581 Filed 3-28-03; 8:45 am]

BILLING CODE 4140-01-P